DEPARTMENT OF ENERGY

Federal Energy Regulatory Commission

Notice of Settlement, Transfer, and Amendment of License and Soliciting Comments, Motions to Intervene, and Protests

May 9, 2000.

Take notice that the following application has been filed with the Commission and is available for public inspection:

a. Application Type: Request for Approval of Settlement, Partial Transfer of License, and Amendment of License.

b. Project No: 2030-032.

c. Date Filed: April 20, 2000.

d. Applicants: Portland General Electric Company (PGE) and the Confederated Tribes of the Warm Springs Reservation of Oregon (Tribes).

e. Name and Location of Project: The Pelton—Round Butte Hydroelectric Project is on the Deschutes River in Jefferson County, Oregon, The project occupies Tribal lands within the Warm Springs Indian Reservation.

f. Filed Pursuant to: Federal Power Act, 16 U.S.C. 791(a)-825(r).

g. Applicant Contacts: Mr. A.W. Turner, Assistant General Counsel, Portland General Electric Company, One World Trade Center, 121 SW Salmon Street, Suite 1301, Portland, OR 97304, (503) 464-8926 and Mr. James D. Noteboom, Karnopp, Petersen, Noteboom, Hansen, Arnet & Sayeg, L.L.P., 1201 NW Wall Street, Suite 300, Bend, OR 97701, (541) 382-3011.

h. FERC Contact: Any questions on this notice should be addressed to James Hunter at (202) 219-2839.

i. Deadline for filing comments and or motions: July 17, 2000.

All documents (original and eight copies) should be filed with: David P. Boergers, Secretary, Federal Energy Regulatory Commission, 888 First Street, NE., Washington, DC 20426.

Please include the project number (P-2030-032) on any comments or motions filed.

j. Description of Proposal: The application is aimed at resolving long-standing issues between PGE and the Tribes, including establishing compensation to the Tribes pursuant to Section 10(e) of the Federal Power Act (FPA), and obviating their filing of competing relicensing applications for the project. The application requests that the Commission approve the parties’ “Global Agreement,” which includes compensation to be paid to the Tribes under the parties’ “Compensation Agreement.” Specifically, the application requests that the Commission:

• Approve the compensation to be paid to the Tribes pursuant to the Compensation Agreement;

• Determine that this compensation shall be the exclusive means of satisfying PGE's obligations to the Tribes pursuant to FPA section 10(e) for the full term of any new license for Project No. 2030;

• Waive the Commission's authority to re-establish compensation at ten (10) year intervals pursuant to FPA section 10(e);

• Approve the future transfer to PGE interests in Project No. 2030 to the Tribes pursuant to the Compensation Agreement;

• Amend paragraph (iii) of Article 25 of the Project license, effective upon the transfer of a 33.33 percent interest in the Project from PGE to the Tribes, to provide that all compensation for use of Tribal lands shall be governed by the Global Agreement; and

• Approve, pursuant to FPA section 8, the partial transfer of the license for Project No. 2030 by deleting paragraph (A) of the license, which made PGE and the Tribes co-licensees “to the extent of their interests” in project property, and replace it with a statement that PGE and the Tribes are “co-licensees without limitations.”

PGE filed a companion Application for Authority to Sell Jurisdictional Facilities pursuant to FPA section 203. Public notice of that application, assigned Docket No. EC00-80-000, was issued on April 27, 2000.

The transfer application was filed within five years of expiration of the license, which is the subject of competing pending relicense applications for Project Nos. 2030-031 and 11832-000. In Hydroelectric Relicensing Regulations Under the Federal Power Act (54 Fed. Reg. 23,756; FERC Stats. and Regs., Regs. Preambles 1986-1990 30,854 at p. 31,437), the Commission declined to forbid all license transfers during the last five years of existing license, and instead indicated that it would scrutinize all such transfer requests to determine if the transfer's primary purpose was to give the transferee an advantage in relicensing (id. at p. 31,438 n. 318).

k. Locations of the application: A copy of the application is available for inspection and reproduction at the Commission's Public Reference Room, located at 888 First Street, NE, Room 2A, Washington, DC 20426, or by calling (20) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters and title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-12082 Filed 5-12-00; 8:45 am]

BILLING CODE 6717-01-M